NATIONAL AERONAUTICS AND SPACE ADMINISTRATION

[Notice 11-089]

NASA Advisory Council; Science Committee; Planetary Science Subcommittee; Meeting

AGENCY: National Aeronautics and Space Administration.

ACTION: Notice of meeting.

SUMMARY: In accordance with the Federal Advisory Committee Act, Public Law 92-463, as amended, the National Aeronautics and Space Administration (NASA) announces a meeting of the Planetary Science Subcommittee of the NASA Advisory Council (NAC). This Subcommittee reports to the Science Committee of the NAC. The meeting will be held for the purpose of soliciting, from the scientific community and other persons, scientific and technical information relevant to program planning.

DATES: Thursday, October 27, 2011, 2 p.m. to 4 p.m., Local Time.

ADDRESSES: This meeting will take place telephonically and by WebEx. Any interested person may call the USA toll free conference call number 888-469-0977, pass code PSS, to participate in this meeting by telephone. The WebEx link is https://nasa.webex.com/, meeting number 995 834 484, and password PSS@Oct27.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Status of Fiscal Year 2012 Budget and Impacts.

—Status of the Potential Joint Program/Missions with the European Space Agency.

—Update on the NASA Response to the National Research Council Planetary Decadal Survey

It is imperative that the meeting be held on this date to accommodate the scheduling priorities of the key participants.

Dated: October 3, 2011.
P. Diane Rausch,
Advisory Committee Management Officer, National Aeronautics and Space Administration.

[FR Doc. 2011-26033 Filed 10-6-11; 8:45 am]

BILLING CODE P